NATIONAL AERONAUTICS AND SPACE ADMINISTRATION

[Notice: (20-015)]

NASA Earth Science Advisory Committee; Meeting

AGENCY: National Aeronautics and Space Administration.

ACTION: Notice of meeting.

SUMMARY: In accordance with the Federal Advisory Committee Act, the National Aeronautics and Space Administration (NASA) announces a meeting of the Earth Science Advisory Committee (ESAC). This Committee functions in an advisory capacity to the Director, Earth Science Division, in the NASA Science Mission Directorate. The meeting will be held for the purpose of soliciting, from the scientific community and other persons, scientific and technical information relevant to program planning.

DATES: Tuesday, March 10, 2020, 8:30 a.m.-5:00 p.m.; and Wednesday, March 11, 2020, 8:30 a.m.-3:00 p.m. All times listed are Eastern Time.

ADDRESSES: NASA Headquarters, Room 6H41 (on Tuesday, March 10) and Room 5H41 (on Wednesday, March 11); 300 E Street SW, Washington, DC 20546.

FOR FURTHER INFORMATION CONTACT: Ms. KarShelia Henderson, Science Mission Directorate, NASA Headquarters, Washington, DC 20546, (202) 358-2355, fax (202) 358-2779, or khenderson@nasa.gov.

SUPPLEMENTARY INFORMATION: The meeting will be open to the public up to the capacity of the meeting room. This meeting is also available telephonically and by WebEx. You must use a touch-tone phone to participate in this meeting. Any interested person may call the USA toll free number 1-800-369-1949 or toll number 1-517-308-9360, passcode 4877306, for both days, to participate in this meeting by telephone. The WebEx link is https://nasaenterprise.webex.com/; the meeting number is 903 089 345, password is WhbJkp?6 (case sensitive) for both days. The agenda for the meeting includes the following topics:

—Earth Science Division Update

—Earth Science Decadal Survey Implementation

—Earth Venture Class, Designated Observables (DO) Studies and Incubation Studies

—Research and Applications Cross-Benefits

—Commercial Data Buy.

The agenda will be posted on the ESAC web page: https://science.nasa.gov/researchers/nac/science-advisory-committees/esac.

Attendees will be requested to sign a register and to comply with NASA Headquarters security requirements, including the presentation of a valid picture ID to Security before access to NASA Headquarters. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee. To expedite admittance, attendees with U.S. citizens and Permanent Residents (green card holders) may provide full name and citizenship status no less than 3 working days in advance by contacting Ms. KarShelia Henderson via email at khenderson@nasa.gov or by fax at (202) 358-2779.

Note: As a precaution, individuals returning from China will not be allowed into NASA Headquarters until the 14 days of observation and self-care period has expired, and they are determined not to be infectious. Attendees to the Earth Science Advisory Committee meeting who are returning from China should only participate virtually through the provided dial-in audio and WebEx, until the 14 days of observation and self-care period has expired.

It is imperative that the meeting be held on this date to accommodate the scheduling priorities of the key participants.

Patricia Rausch,
Advisory Committee Management Officer, National Aeronautics and Space Administration.

[FR Doc. 2020-02957 Filed 2-13-20; 8:45 am]

BILLING CODE 7510-13-P